DEPARTMENT OF ENERGY

Federal Energy Regulatory Commission

Notice of Effectiveness of Exempt Wholesale Generator and Foreign Utility Company Status

CA Flats Solar 150, LLC | EG17-149-000
Florey Knob Energy LLC | EG17-150-000
RE Gaskell West LLC | EG17-151-000
RE Gaskell West 1 LLC | EG17-152-000
RE Gaskell West 4 LLC | EG17-153-000
RE Gaskell West 5 LLC | EG17-154-000
RE Gaskell West 3 LLC | EG17-155-000
Solar Star Oregon II, LLC | EG17-156-000
SP Cactus Flats Wind Energy, LLC | EG17-157-000
Caoxian Taida New Energy Company Limited | FC17-6-000
Altamuskin Windfarm Limited | FC17-7-000
Amplus Andhra Power Private Limited | FC17-8-000

Take notice that during the month of November 2017, the status of the above-captioned entities as Exempt Wholesale Generators or Foreign Utility Companies became effective by operation of the Commission's regulations. 18 CFR 366.7(a) (2017).

Dated: December 20, 2017.
Nathaniel J. Davis, Sr.,
Deputy Secretary

[FR Doc. 2017-27904 Filed 12-26-17; 8:45 am]

BILLING CODE 6717-01-P